DEPARTMENT OF DEFENSE

Department of the Air Force

[Docket ID USAF-2010-0032]

Privacy Act of 1974; System of Records

AGENCY: Department of the Air Force, DoD.

ACTION: Notice to Add a System of Records.

SUMMARY: The Department of the Air Force proposes to add a system of records to its inventory of records systems subject to the Privacy Act of 1974, (5 U.S.C. 552a), as amended.

DATES: This proposed action will be effective without further notice on January 18, 2011 unless comments are received which result in a contrary determination.

ADDRESSES: You may submit comments, identified by dock number and/RIN number and title, by any of the following methods:

* Federal Rulemaking Portal: http://www.regulations.gov. Follow the instructions for submitting comments.

* Mail: Federal Docket Management System Office, Room 3C843, 1160 Defense Pentagon, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Department of the Air Force Privacy Office, Air Force Privacy Act Office, Office of Warfighting Integration and Chief Information officer, Attn: SAF/XCPPI, 1800 Air Force Pentagon, Washington DC 20330-1800, or Mr. Charles J. Shedrick, 703-696-6488.

SUPPLEMENTARY INFORMATION: The Department of the Air Force's notices for systems of records subject to the Privacy Act of 1974 (5 U.S.C. 552a), as amended, have been published in the Federal Register and are available from the FOR FURTHER INFORMATION CONTACT address above. The proposed systems reports, as required by 5 U.S.C. 552a(r) of the Privacy Act, were submitted on December 8, 2010, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996, (February 20, 1996, 61 FR 6427).

Dated: December 9, 2010.
Morgan F. Park,
Alternate OSD Federal Register Liaison Officer, Department of Defense.

F065 AF FMP C

System name:

Commanders' Resource Integration System

System location:

Defense Information Services Agency, Defense Enterprise Computing Center-Ogden (DISA DECC-Ogden), 7879 Wardleigh Road, Building 891, Hill Air Force Base, UT 84056-5997.

Categories of individuals covered by the system:

Air Force Active duty, Reserve and National Guard military personnel, government civilians, and family members.

Categories of records in the system:

The Commanders' Resource Integration System contains historical Air Force financial data including travel orders for service or family member and civilian payroll information. It will include name, Social Security Number (SSN), date of birth, home address including 5-digit zip codes. Non-personal information includes accounting classification data elements, appropriation data element, stage of accounting, document identifiers (e.g., contract numbers, purchase request numbers, voucher numbers) and amounts.

Authority for maintenance of the system:

5 U.S.C. 301, Departmental Regulations; 10 U.S.C. 8013, Secretary of the Air Force; 31 U.S.C. 3512, Executive agency accounting and other financial management reports and plans; 31 U.S.C. 3513, Financial reporting and accounting system; DoD Directive 5000.01, The Defense Acquisition System; DoD Instruction 5000.02, Operation of the Defense Acquisition System; DoD Instruction 7000.14, Department of Defense Financial Management Policy and Procedures; and E.O. 9397(SSN), as amended.

Purpose(s):

To track outstanding travel orders, analyze budget execution, track payroll costs and to help identify civilian employee demographics.

Also used to facilitate the analysis and retrieval of standard and ad hoc queries for reporting to various levels of the Air Force echelon (unit, base, command, Air Force).

Routine uses of records maintained in the system, including categories of users and the purposes of such uses:

Any release of information contained in this system of records outside of the DoD will be compatible with purposes for which the information is collected and maintained.

To Citibank in support of the Air Force Controlled Spend Account (CSA) as it relates to the Citibank Government Travel Card for the purpose of establishing and maintaining Government Travel Card credit limits in support of official Air Force travel.

The DoD “Blanket Routine Uses” apply to this system of records.

Policies and practices for storing, retrieving, accessing, retaining, and disposing of records in the system:

Storage:

Electronic storage media.

Retrievability:

Social Security Number (SSN), name and Appropriation Data Element.

Safeguards:

Records are maintained in a controlled facility. Physical entry is restricted by the use of locks, guards, and is accessible only to authorized personnel. Access to records is limited to person(s) responsible for servicing the record in performance of their official duties and who are properly screened and cleared for need-to-know. System administrator access to computerized data is restricted by passwords, which are changed periodically. User access to computerized data is restricted and authenticated by approved DOD Public Key Infrastructure (PKI) certificates. Data transmission is via Hypertext Transfer Protocol Secure (HTTPS) using Secure Socket Layer (SSL).

Retention and Disposal:

Records are cut off at the end of the fiscal year, and destroyed in 6 years and 3 months after cutoff.

System manager(s) and address:

Program Manager, Commanders' Resource Integration System, Air Force Program Executive Office, Enterprise Information Systems, Legacy Financial Systems (AFPEO EIS/HIQG), 4225 Logistics Avenue, Building 266, Room N009, Wright-Patterson Air Force Base, OH 45433-5749.

Notification procedure:

Individuals seeking to determine whether information about themselves is contained in this system should address written inquiries to Deputy Assistant Secretary for Financial Operations, Air Force Financial Systems Operations (SAF/FMPT (AFFSO)), 1940 Allbrook Drive, Building 1, Door 18, Wright-Patterson Air Force Base, OH 45433-5344.

For verification purposes, individual should provide their full name, Social Security Number (SSN), any details which may assist in locating records, and their signature.

In addition, the requester must provide a notarized statement or an unsworn declaration made in accordance with 28 U.S.C. 1746, in the following format:

If executed outside the United States:

`I declare (or certify, verify, or state) under penalty of perjury under the laws of the United States of America that the foregoing is true and correct. Executed on (date). (Signature)'.

If executed within the United States, its territories, possessions, or commonwealths:

`I declare (or certify, verify, or state) under penalty of perjury that the foregoing is true and correct. Executed on (date). (Signature)'.

Record access procedures:

Individuals seeking access to information about themselves contained in this system should address written inquiries to Deputy Assistant Secretary for Financial Operations, Air Force Financial Systems Operations (SAF/FMPT (AFFSO)), 1940 Allbrook Drive, Building 1, Door 18, Wright-Patterson Air Force Base, OH 45433-5344.

For verification purposes, individuals should provide their full name, Social Security Number (SSN), any details which may assist in locating records, and their signature.

In addition, the requester must provide a notarized statement or an unsworn declaration made in accordance with 28 U.S.C. 1746, in the following format:

If executed outside the United States:

`I declare (or certify, verify, or state) under penalty of perjury under the laws of the United States of America that the foregoing is true and correct. Executed on (date). (Signature)'.

If executed within the United States, its territories, possessions, or commonwealths:

`I declare (or certify, verify, or state) under penalty of perjury that the foregoing is true and correct. Executed on (date). (Signature)'.

Contesting record procedures:

The Air Force rules for accessing records, for contesting contents, and for appealing initial agency determinations are published in Air Force Instruction 33-332, Privacy Act Program; 32 CFR part 806b; or may be obtained from the system manager.

Record source categories:

From personnel and financial information systems.

Exemptions claimed for the system:

None.

[FR Doc. 2010-31575 Filed 12-15-10; 8:45 am]

BILLING CODE 5001-06-P